DEPARTMENT OF ENERGY

Federal Energy Regulatory Commission

[Docket No. RP00-247-001]

Colorado Interstate Gas Company; Notice of Tariff Compliance Filing

June 21, 2000.

Take notice that on June 13, 2000, Colorado Interstate Gas Company (CIG), tendered for filing to become part of its FERC Gas Tariff, First Revised Volume No. 1, the substitute tariff sheets listed in Appendix A to the filing, to be effective June 1, 2000.

CIG states that these tariff sheets are being filed in compliance with the order issued May 31, 2000 in Docket No. RP00-247.

CIG states these tariff sheets reflect the change to reinstate the imbalance payback period that is currently available during the first week of the month following the transportation activities causing the imbalance.

Any person desiring to protest the filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-16128 Filed 6-26-00; 8:45 am]

BILLING CODE 6717-01-M